DEPARTMENT OF HEALTH AND HUMAN SERVICES

Health Resources and Services Administration

Health Center Program

AGENCY: Health Resources and Services Administration, HHS.

ACTION: Notice of class deviations from the requirements for competition and budget amount for the Health Center Program.

SUMMARY: The Bureau of Primary Health Care has been granted class deviations.

SUPPLEMENTARY INFORMATION:

Intended Recipient of the Award: Approximately 1,380 Health Center Program award recipients.

Amount of Competitive Awards: Approximately $100 million will be awarded in FY 2016 through a one-time supplement.

Period of Supplemental Funding: Anticipated 12 month project period is September 1, 2016 through August 31, 2017.

CFDA Number: 93.224.

Authority: Section 330 of the Public Health Service Act, as amended (42 U.S.C. 254b, as amended).

Justification

Targeting the Nation's neediest populations and geographic areas, the Health Center Program supports nearly 1,400 health centers that operate approximately 9,800 service delivery sites in every state, the District of Columbia, Puerto Rico, the Virgin Islands, and the Pacific Basin. Nearly 23 million patients received comprehensive, culturally competent, quality primary health care services through the Health Center Program award recipients in 2014.

The Fiscal Year 2016 Quality Improvement Award funding will aim to improve the overall quality, efficiency, and value of health care service delivery programs. These awards recognize the highest clinically performing health centers nationwide as well as those health centers that have made significant quality improvement gains in the past year to build systems and processes that support ongoing quality improvement and practice redesign; increase access to comprehensive primary health care services; and recognize high value health centers that have improved quality, access, and cost. By making these investments, Health Centers will use these funds to expand current quality improvement systems and infrastructure, and improve care delivery systems to bring the highest quality primary care services to the communities they serve. HRSA-funded health centers are expected to have ongoing quality assurance and improvement programs that improve patient care and outcomes.

FOR FURTHER INFORMATION CONTACT: Matt Kozar, Strategic Initiatives and Planning Division, Director, Office of Policy and Program Development, Bureau of Primary Health Care, Health Resources and Services Administration at (301) 443-1034 or mkozar@hrsa.gov.

Dated: June 22, 2016.
James Macrae,
Acting Administrator.

[FR Doc. 2016-15208 Filed 6-27-16; 8:45 am]

BILLING CODE 4165-15-P